DEPARTMENT OF THE INTERIOR

National Park Service

60-Day Notice of Intention To Request Clearance of Collection of Information; Opportunity for Public Comment

AGENCY: National Park Service, Interior.

ACTION: Notice and request for comment.

SUMMARY: Under provisions of the Paperwork Reduction Act of 1995 and 5 CFR part 1320, Reporting and Record Keeping Requirements, the National park Service (NPS) invites public comments on an extension of a currently approved information collection (OMB #1024-0125).

DATES: Public comments will be accepted on or before September 8, 2006.

ADDRESSES: Send comments to Jo A. Pendry, Concession Program Manager, National Park Service, 1849 C Street, NW., (2410), Washington, DC 20240; e-mail jo_pendry@nps.gov; Phone: 202/513-7144; Fax: 202/371-2090.

SUPPLEMENTARY INFORMATION: Title: Submission of Offers in Response to Concession Opportunities.

Bureau Form Number: None.

OMB Control Number: 1024-0125.

Expiration Date of Approval: December 31, 2006.

Type of Request: Extension of a currently approved information collection.

Description of Need: The regulations at 36 CFR part 51 primarily implement Title IV of the National Parks Omnibus Management Act of 1998 (Pub. L. 105-391 or the Act), which provides new legislative authority, policies and requirements for the solicitation, award and administration of NPS concession contracts. The regulations require the submission of offers by parties interested in applying for a NPS concession contract.

The NPS specifically requests comments on: (1) The need for the collection of information for the performance of the functions of the agency; (2) the accuracy of the agency's burden estimates; (3) ways to enhance the quality, utility and clarity of the information collection; and (4) ways to minimize the information collection burden on respondents, such as use of automated means of collection of the information.

Frequency of Collection: On occasion.

Description of Respondents: Persons or entities seeking a National Park Service concession contract.

Total Annual Responses: 240.

Estimate of Burden: Approximately 56 hours per response.

Total Annual Burden Hours: 76,800.

Total Non-hour Cost Burden: $1,120,000.

Specific requirements regarding the information that must be submitted by offerors in response to a prospectus issued by NPS are contained in sections 403(4), (5), (7), and (8) of the Act. Send comments regarding the accuracy of the burden estimate, ways to minimize the burden, including the use of automated collection techniques or other forms of information technology, or any other aspect of this collection to Jo A. Pendry, Concession Program Manager, National Park Service, Department of the Interior, 1849 C Street, NW., (2410) Washington, DC 20240. All responses to this notice will be summarized and included in the request for OMB approval. All comments will also become a matter of public record.

Dated: June 27, 2006.
Leonard E. Stowe,
NPS, Information Collection Clearance Officer.

[FR Doc. 06-6069 Filed 7-7-06; 8:45 am]

BILLING CODE 4312-53-M